DEPARTMENT OF COMMERCE

National Oceanic and Atmospheric Administration

RIN 0648-XC028

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will convene a meeting of the Standing, Special Shrimp and Special Reef Fish Scientific and Statistical Committees (SSC).

DATES: The meeting will convene at 1 p.m. on Tuesday, June 5, 2012 and conclude by 3 p.m., Friday, June 8, 2012.

ADDRESSES: The meeting will be held at the Gulf of Mexico Fishery Management Council, 2203 North Lois Avenue, Suite 1100, Tampa, FL 33607; telephone: (813) 348-1630.

Council address: Gulf of Mexico Fishery Management Council, 2203 N. Lois Avenue, Suite 1100, Tampa, FL 33607.

FOR FURTHER INFORMATION CONTACT: Steven Atran, Population Dynamics Statistician; Gulf of Mexico Fishery Management Council; telephone: (813) 348-1630.

SUPPLEMENTARY INFORMATION: The Standing and Special Shrimp SSC will meet jointly on Tuesday and Wednesday, June 5-6, 2012 to review benchmark stock assessments on brown shrimp, white shrimp and pink shrimp, and may consider recommending definitions of overfishing limit (OFL) and acceptable biological catch (ABC) based on those assessments. On Thursday and Friday, June 7-8, 2012, the Standing and Special Reef Fish SSC will meet jointly. The Standing and Special Reef Fish SSC will receive a presentation on methods for setting ABC for stocks that have reliable catch data only (only reliable catch stocks—ORCS). The SSC will also review recommendations from the ABC Control Rule Working Group on possible modifications to the ABC control rule that was adopted as part of the Generic Annual Catch Limits/Accountability Measures Amendment, and may make recommendations on modifications of the ABC control rule to the Council. The SSC will also reconsider it earlier ABC recommendation for vermilion snapper in light of concern that the P-star method used did not fully capture scientific uncertainty. The SSC will review proposed terms of reference for an upcoming SEDAR mutton snapper update assessment. The SSC will review barotrauma issues, including a summary of a recent workshop on developments in methods and devices for returning fish to the water, a presentation on physiological effects of barotrauma by Dr. Karen Burns, a presentation on marine mammal interactions with released fish by Dr. Greg Stuntz, and a review of a published report by Dr. Gene Wilde on the effectiveness of venting on improving survival of released fish. Based on these reviews, the SSC may make recommendations regarding the current rules requiring possession of venting tools on vessels catching reef fish. The SSC will also discuss establishing status determination criteria for determining when stocks are overfished or experiencing undergoing overfishing for stocks that do not currently have such criteria. In addition, the SSC will conduct a routine review of the schedule and priorities for upcoming SEDAR stock assessments. Under other business, the SSC will be asked to clarify a recent request that it be provided with an annual report on the status of Gulf gray triggerfish.

Copies of the agenda and other related materials can be obtained by calling (813) 348-1630 or can be downloaded from the Council's ftp site, ftp.gulfcouncil.org.

Although other non-emergency issues not on the agenda may come before the Scientific and Statistical Committees for discussion, in accordance with the Magnuson-Stevens Fishery Conservation and Management Act, those issues may not be the subject of formal action during this meeting. Actions of the Scientific and Statistical Committees will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Council (see ADDRESSES) at least 5 working days prior to the meeting.

Dated: May 15, 2012.
Tracey L. Thompson,
Acting Director, Office of Sustainable Fisheries, National Marine Fisheries Service.

[FR Doc. 2012-12077 Filed 5-17-12; 8:45 am]

BILLING CODE 3510-22-P